DEPARTMENT OF DEFENSE

Department of the Air Force

Notice of Intent To Prepare an Update to the 2012 Integrated Natural Resources Management Plan and Public Report for the Barry M. Goldwater Range and Prepare a New Integrated Natural Resources Management Plan for Marine Corps Air Station—Yuma, Luke AFB, Including Fort Tuthill and Auxiliary Field #1, Arizona

AGENCY: United States Air Force and United States Marine Corps, Department of Defense.

ACTION: Notice of intent.

SUMMARY: The U.S. Air Force (USAF), in consultation with the United States Marine Corps (USMC) is issuing this notice of intent (NOI) to conduct a five year review and update of the Integrated Natural Resources Management Plan (INRMP) for the Barry M. Goldwater Range (BMGR), AZ.

DATES: Meetings will be held in Ajo on 13 March, 2018 and Yuma on 14 March, 2018.

1. Tuesday, March 13, 2018. 5:30-7:30 p.m. International Sonoran Desert Alliance Learning Center, 401 W Esperanza Avenue, Ajo, AZ 85321.

2. Wednesday, March 14, 2018. 5:30-7:30 p.m. Yuma County Library District, Main Library, 2951 S 21st Drive, Yuma, AZ 85364.

ADDRESSES: Comments may be submitted to: Ms. Jennie Anderson, Center for Environmental Management of Military Lands, (970) 491-5640, Colorado State University, 1490 Campus Delivery, Fort Collins, CO 80523-1490, cemml_azinrmps@colostate.edu.

SUPPLEMENTARY INFORMATION: This NOI (40 CFR 1508.22) is to conduct a five year review and update of the INRMP for the BMGR and prepare a Public Report pursuant to Section 3031(b)(5)(B) of the Military Lands Withdrawal Act [MLWA of 1999 (Pub. L. 106-65, Title XXX)]. The public meetings will familiarize the public with the progress made in the management of natural resources, share information about projects planned to support natural resource management during the next five years, and facilitate public involvement with the existing Public Report and INRMP for the BMGR.

The USAF and USMC are conducting an update of the 2012 BMGR INRMP along with development of new INRMP documents for Luke Air Force Base, including Fort Tuthill and Auxiliary Airfield #1 for the USAF; as well as a new INRMP for Marine Corps Air Station (MCAS) Yuma. The Sikes Act (16 U.S.C. 670a) provides that established INRMPs must be reviewed as to their operation and effect not less than every five years. The existing BMGR INRMP will be updated in accordance with the Sikes Act provision in coordination with the Director of the U.S. Fish and Wildlife Service and the Director of the Arizona Game and Fish Department. Additionally, an updated Public Report summarizing changes in military use of the BMGR since 2012, as well as summarizing management initiatives involving resources found on these lands will be prepared in accordance with the MLWA of 1999.

Henry Williams,
Acting Air Force Federal Register Officer.

[FR Doc. 2018-04065 Filed 2-27-18; 8:45 am]

BILLING CODE 5001-10-P